DEPARTMENT OF COMMERCE

International Trade Administration

[A-489-846]

Certain Steel Nails From the Republic of Turkey: Postponement of Final Determination of Sales at Less Than Fair Value Investigation

AGENCY: Enforcement and Compliance, International Trade Administration, Department of Commerce.

SUMMARY: The U.S. Department of Commerce (Commerce) is postponing the deadline for issuing the final determination in the less-than-fair-value (LTFV) investigation of certain steel nails (nails) from the Republic of Turkey (Turkey) until December 19, 2022, and is extending the provisional measures from a four-month period to a period of not more than six months.

DATES: Applicable September 29, 2022.

FOR FURTHER INFORMATION CONTACT: David Crespo, AD/CVD Operations, Office II, Enforcement and Compliance, International Trade Administration, U.S. Department of Commerce, 1401 Constitution Avenue NW, Washington, DC 20230; telephone: (202) 482-3693.

SUPPLEMENTARY INFORMATION:

Background

On January 19, 2022, Commerce initiated an LTFV investigation of imports of nails from Turkey.¹ The period of investigation is October 1, 2020, through September 30, 2021. On August 4, 2022, Commerce published the Preliminary Determination.²

¹ See Certain Steel Nails from India, Sri Lanka, Thailand, and the Republic of Turkey: Initiation of Less-Than-Fair-Value Investigations, 87 FR 3965 (January 26, 2022).

² See Certain Steel Nails from the Republic of Turkey: Preliminary Affirmative Determination of Sales at Less Than Fair Value, 87 FR 47699 (August 4, 2022) (Preliminary Determination).

Postponement of Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

On August 2, 2022, Aslanbas Civi Tel Ve Celik Hasir San. A.S. (Aslanbas) and Sertel Vida Metals, A.S. (Sertel Vida), mandatory respondents in this investigation, requested that Commerce postpone the deadline for the final determination until no later than 135 days from the publication of the Preliminary Determination, and extend the application of the provisional measures from a four-month period to a period of not more than six months.³ In accordance with section 735(a)(2)(A) of the Act and 19 CFR 351.210(b)(2)(ii), because: (1) the preliminary determination was affirmative; (2) the request was made by the exporters and producers who account for a significant proportion of exports of the subject merchandise; and (3) no compelling reasons for denial exist, Commerce is postponing the final determination until no later than 135 days after the date of the publication of the Preliminary Determination, and extending the provisional measures from a four-month period to a period of not more than six months. Accordingly, Commerce will issue its final determination no later than December 19, 2022.⁴

³ See Aslanbas and Sertel Vida's Letter, “Request to Extend the Final Determination,” dated August 2, 2022.

⁴ Postponing the final determination to 135 days after the publication of the Preliminary Determination would place the deadline on Saturday, December 17, 2022. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to 19 CFR 351.210(g).

Dated: September 23, 2022.
Lisa W. Wang,
Assistant Secretary for Enforcement and Compliance.

[FR Doc. 2022-21132 Filed 9-28-22; 8:45 am]

BILLING CODE 3510-DS-P